DEPARTMENT OF HEALTH AND HUMAN SERVICES

National Institutes of Health

Prospective Grant of Exclusive Start-up Option License: Anti-TNF Induced Apoptosis (ATIA) Diagnostic Markers and Therapies

AGENCY: National Institutes of Health, HHS.

ACTION: Notice.

SUMMARY: This is notice, in accordance with 35 U.S.C. 209(c)(1) and 37 CFR part 404.7(a)(1)(i), that the National Cancer Institute (NCI), National Institutes of Health, Department of Health and Human Services, is contemplating the grant of a Start-Up Exclusive Option License Agreement to IntelliPanel Medical, LLC, a company having a place of business in Philadelphia, PA, to practice the inventions embodied in the following patent applications:

Intellectual Property

U.S. Patent Application No. 13/322,863, titled “Anti-TNF Induced Apoptosis (ATIA) Diagnostic Markers and Therapies” filed 28 November 2011 (HHS Ref. No.: E-178-2009/0-US-03); PCT Application No. PCT/US2010/36394, titled “Anti-TNF Induced Apoptosis (ATIA) Diagnostic Markers and Therapies” filed 27 May 2010 (HHS Ref. No.: E-178-2009/0-PCT-02); and U.S. Provisional Patent Application No. 61/182,072, titled “Anti-TNF Induced Apoptosis (ATIA) Diagnostic Markers and Therapies” filed May 28, 2009 (HHS Ref. No.: E-178-2009/0-US-01).

The patent rights in these inventions have been assigned and/or exclusively licensed to the government of the United States of America.

The territory of the prospective Start-Up Exclusive Option License Agreement may be worldwide, and the field of use may be limited to “Anti-TNF Induced Apoptosis (ATIA) for the diagnosis, monitoring, and treatment of Glioblastoma Multiforme (GBM).”

Upon the expiration or termination of the Start-up Exclusive Option License Agreement, IntelliPanel Medical, LLC will have the exclusive right to execute a Start-Up Exclusive Patent License Agreement which will supersede and replace the Start-up Exclusive Option License Agreement, with no greater field of use and territory than granted in the Start-up Exclusive Option License Agreement.

DATES: Only written comments and/or applications for a license which are received by the NIH Office of Technology Transfer on or before June 3, 2016 will be considered.

ADDRESSES: Requests for copies of the patent application(s), inquiries, comments, and other materials relating to the contemplated Start-Up Exclusive Option License Agreement should be directed to: Jaime M. Greene, M.S., Senior Licensing and Patenting Manager, Technology Transfer Center, National Cancer Institute, 9609 Medical Center Drive, Rockville, MD 20850; telephone: 240-276-6633; fax: 240-276-5504; email: greenejaime@mail.nih.gov. A signed confidentiality nondisclosure agreement will be required to receive copies of any patent applications that have not been published or issued by the United States Patent and Trademark Office or the World Intellectual Property Organization.

SUPPLEMENTARY INFORMATION: This technology concerns the Anti-TNF Induced Apoptosis (ATIA) protein along with methods of diagnosing and treating neoplasia by blocking ATIA. This technology may be useful for the development of diagnostics and therapeutics for brain cancers including GBM.

The prospective Start-Up Exclusive Option License Agreement is being considered under the small business initiative launched on October 1, 2011 and will comply with the terms and conditions of 35 U.S.C. 209 and 37 CFR part 404.7. The prospective Start-Up Exclusive Option License Agreement may be granted unless the NIH receives written evidence and argument, within fifteen (15) days from the date of this published notice, that establishes that the grant of the contemplated Start-Up Exclusive Option License Agreement would not be consistent with the requirements of 35 U.S.C. 209 and 37 CFR part 404.7.

Complete applications for a license in the prospective field of use that are filed in response to this notice will be treated as objections to the grant of the contemplated Start-Up Exclusive Option License Agreement. Comments and objections submitted to this notice will not be made available for public inspection and, to the extent permitted by law, will not be released under the Freedom of Information Act, 5 U.S.C. 552.

Dated: May 12, 2016.
Richard U. Rodriguez,
Associate Director, Technology Transfer Center, National Cancer Institute.

[FR Doc. 2016-11769 Filed 5-18-16; 8:45 am]

BILLING CODE 4140-01-P